NATIONAL ARCHIVES AND RECORDS ADMINISTRATION

36 CFR Part 1281

[NARA-07-0005]

RIN 3095-AA82

Presidential Library Facilities; Correction

AGENCY: National Archives and Records Administration.

ACTION: Correcting amendments.

SUMMARY: This document contains a correction to regulations related to architectural and design standards for Presidential libraries and information required in NARA's reports to Congress before accepting title to or entering into an agreement to use land, a facility, and equipment as a Presidential library.

DATES: This regulation is effective March 2, 2011.

FOR FURTHER INFORMATION CONTACT: Laura McCarthy at (301) 837-3023.

SUPPLEMENTARY INFORMATION:

In the final regulations (NARA-07-0005) published in the Federal Register on Tuesday, June 17, 2008 (73 FR 34197) that are the subject of this correction, NARA adopted and incorporated by reference ANSI/BOMA Z65.1-1996 as the standard for measuring the square footage of a Presidential library facility and the value for calculating the endowment. The standard was incorrectly listed in § 1281.2(b)(1) as being referenced in §§ 1281.3 and 1281.8; the correct references are §§ 1281.3 and 1281.16.

List of Subjects in 36 CFR Part 1281

Archives and records, Federal buildings and facilities, Incorporation by reference, Reporting and recordkeeping.

Accordingly, 36 CFR part 1281 is corrected by making the following correcting amendment:

PART 1281—PRESIDENTIAL LIBRARY FACILITIES

1. The authority citation for part 1281 continues to read as follows:

Authority: U.S.C. 2104(a), 2112.

2. Revise § 1281.2(b)(1) to read as follows:

§ 1281.2 What publications are incorporated by reference?

* * * * *

(b) * * *

(1) ANSI/BOMA Z65.1-1996, Standard Method for Measuring Floor Areas in Office Buildings (the BOMA Standard), approved June 7, 1996; IBR approved for §§ 1281.3, and 1281.16.

* * * * *

Dated: February 24, 2011.
David S. Ferriero,
Archivist of the United States.

[FR Doc. 2011-4612 Filed 3-1-11; 8:45 am]

BILLING CODE 7515-01-P